DEPARTMENT OF ENERGY

Federal Energy Regulatory Commission

[Project No. 12796-004]

City of Wadsworth, Ohio; Notice of Teleconference

a. Project Name and Number: R.C. Byrd Hydroelectric Project No. 12796.

b. Date and Time of Meeting: Tuesday, September 20, 2016 at 2:00 p.m. (Eastern Daylight Time).

c. FERC Contact: Andy Bernick, andrew.bernick@ferc.gov or (202) 502-8660.

d. Purpose of Meeting: Commission staff will hold a teleconference to discuss: (1) Additional information needs regarding listed freshwater mussel species filed by U.S. Fish and Wildlife Service's Pennsylvania Field Office (FWS) on June 16, 2016; and (2) the response to FWS' request, filed by American Municipal Power, Inc. (agent for the City of Wadsworth, Ohio) on July 15, 2016.

e. All local, state, and federal agencies, Indian tribes, and other interested entities are invited to participate by phone. Please call Andy Bernick at (202) 502-8660 by Tuesday, September 13, 2016, to RSVP and to receive specific instructions on how to participate.

Dated: August 24, 2016.
Kimberly D. Bose,
Secretary.

[FR Doc. 2016-20971 Filed 8-30-16; 8:45 am]

BILLING CODE 6717-01-P